DEPARTMENT OF ENERGY

Federal Energy Regulatory Commission

Combined Notice of Filings #2

Take notice that the Commission received the following electric rate filings:

Docket Numbers: ER18-2118-009; ER10-1849-023; ER10-1852-048; ER10-1951-030; ER11-2642-018; ER11-4428-024; ER11-4462-051; ER12-1228-024; ER12-1880-023; ER12-2227-023; ER12-569-024; ER12-895-022; ER13-2474-018; ER13-712-025; ER14-2707-019; ER14-2708-020; ER14-2709-019; ER14-2710-019; ER15-1925-017; ER15-2676-016; ER15-30-017; ER15-58-017; ER16-1440-013; ER16-1672-014; ER16-2190-013; ER16-2191-013; ER16-2240-013; ER16-2241-012; ER16-2275-012; ER16-2276-012; ER16-2297-012; ER16-2453-014; ER17-2152-010; ER17-838-026; ER18-1981-008; ER18-2003-008; ER18-2032-008; ER18-2066-004; ER18-2067-005; ER18-2182-008; ER18-2314-004; ER18-882-009; ER19-1128-002; ER19-2495-004; ER19-2513-004; ER20-637-002.

Applicants: Armadillo Flats Wind Project, LLC, Blackwell Wind, LLC, Brady Interconnection, LLC, Brady Wind, LLC, Brady Wind II, LLC, Breckinridge Wind Project, LLC, Cedar Bluff Wind, LLC, Chaves County Solar, LLC, Cimarron Wind Energy, LLC, Cottonwood Wind Project, LLC, Elk City Wind, LLC, Elk City Renewables II, LLC, Ensign Wind, LLC, Florida Power & Light Company, FPL Energy South Dakota Wind, LLC, High Majestic Wind II, LLC, Kingman Wind Energy I, LLC, Kingman Wind Energy II, LLC, Lorenzo Wind, LLC, Mammoth Plains Wind Project, LLC, Minco Wind II, LLC, Minco Wind III, LLC, Minco Wind Interconnection Services, LLC, Minco Wind IV, LLC, Minco IV & V Interconnection, LLC, Minco Wind V, LLC, Ninnescah Wind Energy, LLC, NEPM II, LLC, NextEra Energy, Marketing, LLC, NextEra Energy Services Massachusetts, LLC, Osborn Wind Energy, LLC, Palo Duro Wind Energy, LLC, Palo Duro Wind Interconnection Services, LLC, Pratt Wind, LLC, Roswell Solar, LLC, Rush Springs Energy Storage, LLC, Rush Springs Wind Energy, LLC, Seiling Wind, LLC, Seiling Wind II, LLC, Seiling Wind Interconnection Services, LLC, Sholes Wind Energy, LLC, Steele Flats Wind Project, LLC, Wessington Springs Wind, LLC, Wildcat Ranch Wind Project, LLC, Wilton Wind Energy I, LLC, Wilton Wind Energy II, LLC.

Description: Notice of Change in Status of NextEra Resources Entities.

Filed Date: 12/21/20.

Accession Number: 20201221-5498.

Comments Due: 5 p.m. ET 1/11/21.

Docket Numbers: ER20-491-003.

Applicants: Lake Lynn Generation, LLC.

Description: Compliance filing: Settlement Compliance Filing to be effective 1/1/2020.

Filed Date: 12/23/20.

Accession Number: 20201223-5033.

Comments Due: 5 p.m. ET 1/13/21.

Docket Numbers: ER20-492-003.

Applicants: York Haven Power Company, LLC.

Description: Compliance filing: Settlement Compliance Filing to be effective 1/1/2020.

Filed Date: 12/23/20.

Accession Number: 20201223-5034.

Comments Due: 5 p.m. ET 1/13/21.

Docket Numbers: ER20-2186-002.

Applicants: Fern Solar LLC.

Description: Compliance filing: compliance to 4 to be effective 12/11/2020.

Filed Date: 12/23/20.

Accession Number: 20201223-5076.

Comments Due: 5 p.m. ET 1/13/21.

Docket Numbers: ER21-723-000.

Applicants: Red Horse Wind 2, LLC.

Description: Tariff Cancellation: Cancellation of Rate Schedule Tariff to be effective 12/24/2020.

Filed Date: 12/23/20.

Accession Number: 20201223-5016.

Comments Due: 5 p.m. ET 1/4/21.

Docket Numbers: ER21-724-000.

Applicants: Red Horse III, LLC.

Description: Tariff Cancellation: Cancellation of Rate Schedule Tariff to be effective 12/24/2020.

Filed Date: 12/23/20.

Accession Number: 20201223-5017.

Comments Due: 5 p.m. ET 1/4/21.

Docket Numbers: ER21-725-000.

Applicants: Pacific Gas and Electric Company.

Description: § 205(d) Rate Filing: WPA For Shelter Cove Resort Improvement District No. 1 WDT SA 382 to be effective 2/22/2021.

Filed Date: 12/23/20.

Accession Number: 20201223-5020.

Comments Due: 5 p.m. ET 1/13/21.

Docket Numbers: ER21-726-000.

Applicants: PJM Interconnection, L.L.C.

Description: § 205(d) Rate Filing: Revisions to OATT Sch. 12-Appendices re: 2021 RTEP Annual Cost Allocations to be effective 1/1/2021.

Filed Date: 12/23/20.

Accession Number: 20201223-5025.

Comments Due: 5 p.m. ET 1/13/21.

Docket Numbers: ER21-727-000.

Applicants: Midcontinent Independent System Operator, Inc.

Description: § 205(d) Rate Filing: 2020-12-23_SA 3422 Termination of ITC-Three Waters Wind Farm Sub GIA (J720) to be effective 2/22/2021.

Filed Date: 12/23/20.

Accession Number: 20201223-5026.

Comments Due: 5 p.m. ET 1/13/21.

Docket Numbers: ER21-728-000.

Applicants: Southern California Edison Company.

Description: § 205(d) Rate Filing: Certificates of Concurrences ANPP Hassayampa Sun Streams PVS & Sun Streams 4 to be effective 11/1/2020.

Filed Date: 12/23/20.

Accession Number: 20201223-5029.

Comments Due: 5 p.m. ET 1/13/21.

Docket Numbers: ER21-729-000.

Applicants: Pacific Gas and Electric Company.

Description: § 205(d) Rate Filing: E&P Agreement for Caballero CA Storage TO SA 2100 EP-28 to be effective 2/23/2021.

Filed Date: 12/23/20.

Accession Number: 20201223-5035.

Comments Due: 5 p.m. ET 1/13/21.

Docket Numbers: ER21-730-000.

Applicants: Pacific Gas and Electric Company.

Description: § 205(d) Rate Filing: E&P Agreement for Chalan CA Solar Storage SA 2100 EP-29 to be effective 2/23/2021.

Filed Date: 12/23/20.

Accession Number: 20201223-5036.

Comments Due: 5 p.m. ET 1/13/21.

Docket Numbers: ER21-731-000.

Applicants: Mid-Atlantic Interstate Transmission, LLC, PJM Interconnection, L.L.C.

Description: § 205(d) Rate Filing: MAIT submits Six ECSAs, SA Nos. 5776, 5780, 5781, 5782, 5784, 5785 to be effective 2/22/2021.

Filed Date: 12/23/20.

Accession Number: 20201223-5047.

Comments Due: 5 p.m. ET 1/13/21.

Docket Numbers: ER21-732-000.

Applicants: American Transmission Systems, Incorporated, PJM Interconnection, L.L.C.

Description: § 205(d) Rate Filing: ATSI submits ECSA, SA No. 5783 to be effective 2/22/2021.

Filed Date: 12/23/20.

Accession Number: 20201223-5058.

Comments Due: 5 p.m. ET 1/13/21.

Docket Numbers: ER21-733-000.

Applicants: PJM Interconnection, L.L.C.

Description: § 205(d) Rate Filing: Original WMPA SA No. 5874; Queue No AF1-006 to be effective 11/30/2020.

Filed Date: 12/23/20.

Accession Number: 20201223-5059.

Comments Due: 5 p.m. ET 1/13/21.

Docket Numbers: ER21-734-000.

Applicants: Public Service Company of New Mexico.

Description: § 205(d) Rate Filing: Certificate of Concurrence with APS Rate Schedule Nos. 303 and 304 to be effective 2/1/2021.

Filed Date: 12/23/20.

Accession Number: 20201223-5075.

Comments Due: 5 p.m. ET 1/13/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 23, 2020.
Nathaniel J. Davis, Sr.,
Deputy Secretary.

[FR Doc. 2020-28975 Filed 12-30-20; 8:45 am]

BILLING CODE 6717-01-P